DEPARTMENT OF TRANSPORTATION

Federal Aviation Administration

Glider Towing as a Restricted Category Special Purpose Flight Operation

AGENCY: Federal Aviation Administration (DOT).

ACTION: Notice of availability of Federal Aviation Administration policy.

SUMMARY: This notice announces glider towing as a restricted category special purpose operation under Title 14 of the Code of Federal Regulations (14 CFR) § 21.25(B)(7), for aircraft type certificated under 14 CFR 21.25(a)(1).

DATES: This policy is effective upon publication of this notice.

FOR FURTHER INFORMATION CONTACT: Mr. Graham Long, AIR-110, Room 815, Federal Aviation Administration, Aircraft Certification Service, Aircraft Engineering Division, 800 Independence Avenue, SW., Washington, DC 20591, telephone (202) 267-3715, FAX: (202) 237-5340, or e-mail: 9-AWA-AIR110-GNL2@faa.gov.

SUPPLEMENTARY INFORMATION: The Federal Aviation Administration (FAA) published proposed policy to include the flight operation of glider towing as a restricted category special purpose under Title 14 of the Code of Federal Regulations (14 CFR) § 21.25(b)(7). The comment period closed October 22, 2004. All comments received by the FAA were in favor of the policy. Accordingly, the Director of the Aircraft Certification Service specified, on behalf of the Administrator, that glider towing is a restricted category special purpose flight operation, limited to civil-derived restricted category aircraft certificated under 14 CFR 21.25(a)(1). This action is believed to increase the number of glider tow aircraft available to glider clubs throughout the country, by making available to them aircraft that are currently certificated for other uses, such as agricultural spraying.

Dated: Issued in Washington, DC, on February 8, 2005.
Susan J. M. Cabler,
Acting Manager, Aircraft Engineering Division, Aircraft Certification Service.

[FR Doc. 05-2800 Filed 2-11-05; 8:45 am]

BILLING CODE 4910-13-M